DEPARTMENT OF HEALTH AND HUMAN SERVICES

Administration for Children and Families

Submission for OMB Review; Comment Request

Title: Child Care and Development Fund Annual Aggregate Report, ACF-800.

OMB No.: 0970-0150.

Description: This legislatively mandated report collects program and participant data on children and families receiving direct Child Care and Development Fund services. Aggregate data is collected and used to determine the program scope, types of providers, methods of child care delivery, and to provide a report to Congress.

Respondents: States, the District of Columbia, American Samoa, Guam, Northern Marianna Islands, Puerto Rico, and the U.S. Virgin Islands.

Annual Burden Estimates
Instrument | Number of respondents | No. of responses per respondent | Average burden hours per response | Total burden hours
ACF-800 | 56 | 1 | 50 | 2,800
Estimated Total Annual Burden Hours. |  |  |  | 2,800

Additional Information: Copies of the proposed collection may be obtained by writing to The Administration for Children and Families, Office of Information Services, 370 L'Enfant Promenade, SW, Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW, Washington, DC 20503, Attn: Desk Officer for ACF.

Dated: April 6, 2000.
Bob Sargis,
Reports Clearance Officer.

[FR Doc. 00-9011 Filed 4-11-00; 8:45 am]

BILLING CODE 4184-01-M